DEPARTMENT OF HEALTH AND HUMAN SERVICES

National Institutes of Health

National Institute of Allergy and Infectious Diseases Amended Notice of Meeting

Notice is hereby given of a change in the meeting of the National Institute of Allergy and Infectious Diseases Special Emphasis Panel, which was published in the Federal Register on October 11, 2022, FR Doc 2022-22017, 87 FR 61342.

Amendment to change panel name from NIAID Clinical Trial Planning Grant (R34 Clinical Trial Not Allowed) to NIAID Clinical Trial Planning Grant (R34 Clinical Trial Not Allowed) and Implementation Cooperative Agreement (U01 Clinical Trial Required). The meeting is closed to the public.

Dated: October 25, 2022.
Tyeshia M. Roberson-Curtis,
Program Analyst, Office of Federal Advisory Committee Policy.

[FR Doc. 2022-23541 Filed 10-27-22; 8:45 am]

BILLING CODE 4140-01-P